DEPARTMENT OF LABOR

Office of the Secretary

[SGA 02-06]

Women's Bureau; Women in Apprenticeship and Nontraditional Occupations Act (WANTO) of 1992 FY-2002 Budget, Training and Employment Services (TES) 1601 77174

AGENCY: Women's Bureau, Department of Labor.

ACTION: Notice of availability of funds and solicitation for grant applications.

SUMMARY: The Women's Bureau, U.S. Department of Labor (DOL), announces the 2002 Solicitation for Grant Applications (SGA) authorized under the Women in Apprenticeship and Nontraditional Occupations (WANTO) Act of 1992. The purpose of this program is to assist employers and labor unions in the placement and retention of women in apprenticeship and nontraditional occupations. To that end, WANTO grant funds are disbursed to eligible community-based organizations, which, in turn, provide employers and labor unions with technical assistance geared towards the successful placement and retention of women in apprenticeship and nontraditional occupations.

DATES: One signed original, complete grant application plus two copies of the Technical Proposal and two copies of the Cost Proposal must be submitted. (To aid with the review of applications, USDOL also encourages Applicants to submit three additional copies of the technical proposal [six in total]. Applicants who do not provide additional copies will not be penalized.) The original and copies must be submitted by 5 p.m. EST, September 3, 2002. Hand-delivered applications must be received by that time. An application received after September 3, 2002, will not be considered unless:

1. It was sent by registered or certified mail not later than August 26, 2002;

2. It is determined by the Government that the late receipt was due solely to mishandling by the Government after receipt at the U.S. Department of Labor at the address listed under ADDRESSES; or

3. It was sent by U.S. Postal Service Express Mail Next Day Service-Post Office to Addressee, not later than 5 p.m. EST on August 29, 2002.

The only acceptable evidence to establish the date of mailing of a late application sent by registered or certified mail is the U.S. Postal Service postmark on the envelope or wrapper and on the original receipt from the U.S. Postal Service. If the postmark is not legible, an application received after the specified time and date will be processed as if mailed late. “Postmark” means a printed, stamped, or otherwise placed impression (not a postage meter machine impression) that is readily identifiable without further action as having been applied and affixed by an employee of the U.S. Postal Service on the date of mailing. Therefore, applicants shall request that the postal clerk place a legible hand cancellation bull's-eye postmark on both the receipt and the wrapper or envelope.

The only acceptable evidence to establish the date of mailing of a late application sent by U.S. Postal Service Mail Next Day Service-Post Office to Addressee is the date entered by the post office receiving clerk on the “Express Mail Next Day Service-Post Office to Addressee” label and the postmark on the envelope or wrapper and on the original receipt from the U.S. Postal Service. “Postmark” has the same meaning as defined in the preceding paragraph. Therefore, applicants shall request that the postal clerk place a legible hand cancellation bull's-eye postmark on both the receipt and the envelope or wrapper.

The only acceptable evidence to establish the time of receipt at the U.S. Department of Labor is the date/time stamp of the Office of Procurement Services on the application wrapper or other documentary evidence of receipt maintained by that office. Applications sent by other delivery services, such as Federal Express, UPS, etc., will also be accepted; however, the applicant bears the responsibility of timely submission.

ADDRESSES: Applications must be directed to the U.S. Department of Labor, Procurement Services Center, Attention: Cassandra Willis, Reference SGA 02-06, Room N-5416, 200 Constitution Avenue, NW., Washington, DC 20210.

FOR FURTHER INFORMATION CONTACT: All applicants are advised that U.S. mail delivery in the Washington, DC area has been erratic due to the recent concerns involving anthrax contamination. All applicants must take this into consideration when preparing to meet the application deadline. You assume the risk for ensuring a timely submission; that is, if, because of these mail problems, the Department does not receive an application or receives it too late to give it proper consideration, even if it was timely mailed, the Department is not required to consider the application. Therefore, it is recommended that you confirm receipt of your application by contacting Cassandra Willis, U.S. Department of Labor, Procurement Services Center, telephone (202) 693-4570 (this is not a toll-free number), prior to the closing deadline. Application announcements or forms will not be mailed. The Federal Register may be obtained from your nearest government office or library. In addition, a copy of this notice and the application requirements may be downloaded from the Women's Bureau's Website at http:// www.dol.gov/wb.

SUPPLEMENTARY INFORMATION: This notice contains all of the information needed to apply for grant funding. Grant proposals that are not completed as directed will be judged non-responsive and will not be evaluated.

Part I. Background

A. Authority and Funding.

The Women in Apprenticeship and Nontraditional Occupations Act of 1992 (WANTO) (29 U.S.C. § 2501 et seq.) authorizes the Department of Labor (DOL) to disburse technical assistance grants. The WANTO grants for Fiscal Year (FY) 2002 are funded by DOL FY 2002 Budget: Training and Employment Services (TES) 1610174. The Women's Bureau (WB) co-administers the WANTO program with the DOL Office of Apprenticeship Training, Employer and Labor Services (ATELS). WB has responsibility for implementing the grant process.

B. Purpose

This grant program is designed to assist employers and labor unions (E/LU) in the placement and retention of women in specific sections of the workforce. It is envisioned that the program will promote increased participation by women in apprenticeship and nontraditional occupations (A/NTO). Therefore, WANTO grant funds are distributed to community-based organizations (CBO), which provide technical assistance to E/LU with the goal of placing and retaining women in these occupations. DOL has found that placement and retention of women in A/NTO pose significant challenges. Those challenges are especially acute in fields requiring high technology skills, such as those related to computer-based information technology, for example, telecommunications, utilities, manufacturing, transportation, and general services.

C. Grant Awards

The WB is soliciting proposals on a competitive basis for the WANTO program. WB anticipates that each grantee will receive between $50,000 and $100,000 in funds to conduct innovative projects that comply with the goals set forth in WANTO and in this SGA. The period of performance begins September 30, 2002, and ends on September 29, 2003. The initial performance period may be extended once, for up to three months, at no additional cost to DOL, so that a grantee can finish its final reports. Each application shall clearly state the applicant's intention to begin performance no later than October 1, 2002.

D. Definitions

The following terms are defined for the convenience of prospective applicants:

Nontraditional Occupations (NTO) are those where women account for less than 25 percent of all persons employed in a single occupational group.

Pre-Apprenticeship Programs are those programs that prepare individuals for occupational skills training or entry-level employment in NTO. The curriculum includes pre-vocational instruction in identification and use of tools, blueprint reading, basic shop skills, and safety procedures, as well as math skills and physical conditioning.

Apprenticeship is a formal employment relationship designed to promote skill training and learning on the job. “Hands on” learning takes place in conjunction with related theoretical instruction (often in a classroom setting). An apprentice who successfully completes an ATELS-registered program, which usually requires 3 to 5 years, is awarded a certificate of completion. Employers, or groups of employers, and unions design, organize, manage, and finance apprenticeship programs under the standards developed and registered with ATELS or ATELS-recognized State Apprenticeship Agencies. They also select apprentices who are trained to meet certain pre-determined occupational standards.

Community-Based Organizations (CBO) are private non-profit organizations, which may be faith-based, which are representative of communities or significant segments of communities and which have demonstrated experience administering programs that train women for A/NTO.

Part II. Eligible Applicants—Community-Based Organizations

DOL will award grants through a competitive process, which identifies the best Community-Based Organizations (CBO) applicants. Applicants shall provide evidence, where available, demonstrating their ability to connect women to apprenticeship and nontraditional occupations. Applicants shall also document any experience in enabling women and/or businesses to contact ATELS field offices for assistance and/or for information pertaining to apprenticeship training/placement. A CBO must not be classified under the IRS Tax Code as a 501(c)(4) entity nor be a public body such as a governmental body, public school, college, or hospital. All proposals must document that these eligibility requirements have been, and will continue to be, satisfied.

A consortium of CBOs may apply for a grant provided they include a copy of the consortium agreement and identify the entity/entities that will administer the grant.

Part III. Application Contents

Applications that fail to meet the application requirements or that are missing any of the required information will be deemed non-responsive and will not be evaluated.

A. Technical Proposal

To be considered for a WANTO grant, an application must include all of the information listed in this notice. The technical proposal text is limited to twenty (20) single-sided, double-spaced, 10 to 12 pitch, numbered “8½ x 11” typed pages (not including attachments). Applicants must submit one (1) original and five (5) copies of the technical proposal.

The Following Information is Required:

1. A Table of Contents, listing the application sections.

2. A 2-page abstract, summarizing the proposed project.

3. Documentation of eligibility, as described in Part II of this notice.

4. A Statement of Work, which clearly describes the proposed project and addresses the evaluation criteria in Part IV, Section A 3, of this notice.

5. Documentation of the established relationships with 10 or more employers or labor unions, as described in Part IV, Section A 2, of this notice.

6. Documentation of prior experiences providing technical assistance to employers and labor unions for the purposes of hiring, training and retaining women, as described in Part IV, Section A 1, of this notice.

7. The number of women expected to be placed in training programs, pre-apprenticeships, apprenticeships and non-traditional occupations, as stated in Part IV, Section A 3, of this notice.

8. A support services plan for women when the technical assistance results in women being placed in pre-apprenticeships, apprenticeships and non-traditional occupations, as described in Part IV, Section A 3, of this notice.

9. A description of any leveraging or co-funding anticipated for the accomplishment of the proposed project.

10. A management plan and organizational chart, as described in Part IV, Section A 1, of this notice.

11. A list of all items for which grant funds will be expended. Do not include any cost information, only expenditure items.

12. Two copies of the CBO's budget and major funding sources for the past three (3) years, including foundation and government funds, as well as other types of funding.

B. Cost Proposal

The Cost Proposal is a physically separate document and must not be included within the twenty-page limit of the technical proposal. The Cost Proposal must include the following:

1. A Standard Form (SF) 424, “Application for Federal Assistance.” All copies of the SF 424 must have original signatures of the legal entity applying for grant funding. Applicants must indicate on the SF 424 the organizations IRS status. The Catalogue of Federal Domestic Assistance (CFDA) number for this program is 17.700, which should be entered on the SF 424, block 10.

2. A certification prepared within the last six (6) months, attesting to the adequacy of the entity's fiscal management and accounting systems to account for and safeguard Federal funds properly. The certification should be obtained as follows:

a. For incorporated organizations, a certification from a Certified Public Accountant or

b. For other applicants, their employers' identification number (EIN) issued by the IRS;

3. Budget Information Form 424A, with a narrative of description of each line item.

4. A copy of the most current Indirect Cost Rate Agreement issued by the cognizant federal agency, if applicable.

5. Applications from a consortium of organizations also must include a copy of the consortium agreement and must identify the consortium that will act as the administrative entity for the project. No member of a consortium shall make a separate application under his grant program. In addition, the agreement must specify the consortium's arrangements for handling the administrative and financial responsibilities for the program.

6. The applicants must include the Assurances and Certifications Signature Page. Potential applicants who do not have the current version of the standard grant forms listed can download them from the following OMB Website address: http://www.whitehouse.gov/OMB/grants/forms.html.

Part IV. Evaluation Criteria and Selection Process

Technical proposals will be carefully reviewed by a panel using the following criteria. Up to 115 points may be awarded to an application based on the 100 points for the required information and up to 15 extra points for special program emphasis. Applications that are missing any of the required information will be deemed non-responsive and will not be evaluated. The ranked scores of the proposals will serve as the primary basis for selection of applications for a potential award. Prior performance of previous WANTO grantees will be considered in the final selection of grant awards.

A. Technical Evaluation Criteria/ Points

1. Organizational Overview

Applicants must demonstrate their experience, capability and qualifications for administrating a grant project to provide technical assistance to employers and labor unions. Information submitted should highlight the qualifications of the key staff and the organizational structure that would ensure the success of the project. Applicants should indicate if trades women or women in non-traditional occupations serve as active members of the organization, as either employed staff or as board members. Documentation must include the CBO's organizational chart, the names and full resumes of all primary staff managing the grant project and, where applicable, a narrative differentiating among the CBO, any proposed consultants or sub-contractor's. Job descriptions must identify all key tasks, the hours required for the completion of such tasks, the person's responsible for completing each task, including sub-contractors and consultants. The proposal must include documentation of the organization's experience in recruiting, training or placing women in apprenticeships or non-traditional occupations. Applications must furnish a description of the organization's leadership in providing assistance to employers and labor unions for the purpose of recruiting, training and placement of women and must document any experience serving as a mentor to other community based organizations that provide similar technical assistance. Similar information must be provided for any partners or contractors associated with this grant. (Up to 10 points awarded)

2. Established Employer and Labor Union Linkages

Applications must include documentation of commitments (in the form of agreements or letters) from 10 or more employers and labor unions to receive technical assistance and to place women in apprenticeship or non-traditional occupations. Applications must include the names of those employers and labor unions, as well as letters or agreements indicating their commitment to receive technical assistance for the purpose of hiring and retaining women. Such documentation may be in the form of agreements, support letters or other correspondence showing the request and acceptance of assistance. Applications must show evidence of the employer's and labor union's experiences in recruiting, training or placing women in apprenticeships or non-traditional occupations. Such documentation can include descriptions of previous outreach and orientation provided to women, mentoring programs, support groups, networks, workplace consultation, employee and supervisory workshops, and other workplace-specific strategic planning to increase the participation of women in apprenticeship and non-traditional occupations. Applicants must describe how their grant program will build upon existing and new working relationships with employers and labor unions to increase the number of women placed in apprenticeships and non-traditional jobs. Proposals must indicate the activities and types of assistance that will be provided to meet the goal of increasing the number of women hired and retained. (Up to 20 points awarded)

3. Scope of WANTO Project and Projected Outputs and Outcomes

Applicants must document all forms of technical assistance to be provided to employers and labor unions, including their strategies for upgrading the skills of women in non-traditional occupations and for promoting changes in the workplace culture and in work practices that lead to increased numbers of women in apprenticeships and non-traditional occupations. Such documentation should include the applicant's support services plan; the numbers of women to be placed and retained in pre-apprenticeship training, other training programs, apprenticeship positions and non-traditional jobs and other long-term project outcomes. Support services plans should include collaborative employer and labor union programs available at the worksite, as well as community-based services. Applicants must describe how they will use grant funds to provide technical assistance to employers and labor unions for the purpose of recruiting, training and hiring women in apprenticeship and non-traditional occupations. Grant funds may be used to provide a broad range of technical assistance to employers and labor unions to include: developing or executing workplace assessments, building strategic plans for changes in work practices and establishing linkages to pre-apprenticeship programs for employers or union that pledge employment or apprenticeships for women. Show how grant funds are to be used to support linkages with employers and labor unions and to encourage those entities to be engaged in the processes of recruitment, training and hiring of women. Also provide a description of any activities that would encourage and promote the continuation or expansion of grant activities beyond the grant period. (Up to 70 points awarded)

4. Bonus Points

Bonus points will be awarded, as follows, for projects that demonstrate their experience or indicate their plans to:

a. Provide opportunities for women to be placed and retained into apprenticeships and non-traditional occupations in high technology. (Up to 5 points)

b. Provide services for disabled women to be placed into apprenticeships and non-traditional occupations. (Up to 5 points)

c. Provide mentoring services for at least one other CBO that is providing technical assistance to employers and/or labor unions. (Up to 5 points)

B. Cost Evaluation Criteria

Evaluated proposals will be ranked, based on their costs, in relation to other proposals submitted in response to this SGA.

C. Total Score

The review panel's recommendations are advisory in nature and not binding on the Grant Officer. Final awards will be made based on the best interest of the Government, including, but not limited to, such factors as technical quality, geographic balance, occupational and/or industrial impact and past grant performance. The submission of a previous proposal for a WANTO grant from any prior year does not guarantee an award under this solicitation.

Although the Government reserves the right to award on the basis of the applicant's initial submissions, the Government may establish a competitive range or technically acceptable range based upon proposal evaluation for the purpose of selecting qualified applicants. The Government reserves the right to ask for clarification or hold discussion, but is not obligated to do so. The Grant Officer's determination for award under this SGA is the final agency action.

Part V. Deliverables

This section is provided so that applicants may more accurately estimate the staffing budgetary requirements when preparing their proposal. Applicants are to exclude from their cost proposal the cost of any requested travel to Washington, DC.

A. Post Grant Award Conference

No later than eight (8) weeks after an award, the grantees and partners shall meet with the WB and the ATELS at the Post-Award Conference to discuss the project, related components and TA; time-lines; technical assistance outcomes; assessment for comment; and final approval. The grantees and partners and the Department will discuss and make decisions on the following program activities:

1. The proposed TA commitments for employment, registered apprenticeship, and related skilled nontraditional occupation activities and responsibilities; the number of targeted partnerships with employers and labor unions; and the number of women who will be served.

2. The methodology the proposed partnership will use to support/change management and employee attitudes to promote female workers in A/NTO.

3. The types of systemic change anticipated by the TA strategies that will be incorporated into ongoing employer recruitment, hiring, training, and promotion of women in A/NTO.

4. The occupational, industrial, and geographical impact anticipated.

5. The supportive services to be provided to employers and women after successful placement into A/NTO.

The WB and ATELS will provide further input orally or in writing, if necessary, within ten (10) working days after the Post-Award Conference.

B. Grant Plan of Action

No later than ten (10) weeks after an award, the grantees and the WB will confirm the “plan of action” and detailed time-line for program implementation.

C. Grant Implementation

No later than twelve (12) weeks after an award, the grantee(s) shall have begun providing E/LU with TA to recruit, select, train, place, retain, and otherwise prepare women for A/NTO, with progress to be measured in terms of employment growth and rising earnings.

D. Quarterly Reports

1. No later than sixteen (16) weeks after an award, the first quarterly progress report of work done under this grant must be submitted. Thereafter, quarterly reports will be due twenty (20) working days after the end of each of the remaining quarters.

2. Quarterly progress reports must describe:

a. The overall progress achieved during the reporting period, as measured by the number of E/LU provided with TA, as well as by the number of women trained (on and off the workplace) and placed in A/NTO;

b. An explanation of any quarterly goals that were not met, including steps to be taken in the next quarter to complete the tasks;

c. Any placements in pre-apprenticeship programs or linkages with sponsored apprenticeship programs, giving the name and address of each workplace/company involved, the person(s) responsible for the programs, as well as the number of women affected by or participating in the programs;

c. The number of E/LU receiving TA, giving the E/LU name, address, number of employees at the workplace (including the percentage of women employees), as well as the nature of TA provided;

d. Any problems that may impede the performance of the grant and the proposed corrective action.

e. Any changes in the proposed work to be performed during the next reporting period.

3. In addition, between scheduled reporting dates, the grantee(s) shall immediately inform the Washington Office Grant Officer's Technical Representative of significant developments affecting the ability to accomplish the work.

E. Final Report

1. No later than sixty (60) weeks after an award, the grantee(s) shall submit two (2) copies of the draft Final Report, an integrated draft analysis of the process, and results of the technical assistance activities during the year. The WB and the ATELS will provide written comments on the draft Report within twenty (20) working days, if substantive problems are identified. The grantee's response to these comments shall be incorporated into the Final Report.

2. The Final Report shall cover findings, final performance data, outcome results, an assessment of the grant project and any employer or labor organization plans for follow-up of participants.

3. No later than sixty-four (64) weeks after an award, the grantee(s) shall submit:

a. Two (2) copies of the camera-ready Final Report, bound in a professional manner, and not a collection of loose leaf sheets, and

b. An Executive Summary of the findings and recommendations must be included in the Final Report, separately or combined with the Final Report. These materials must be paid for with grant funds.

Part VII. Grant Requirements

A. Administrative Standards and Provisions

Except as specifically provided, DOL acceptance of a proposal and an award of federal funds to sponsor any program(s) does not provide a waiver of any grant requirements and/or procedures. For example, the OMB circulars require and an entity's procurement procedures must require that all procurement transactions will be conducted, as practical, to provide open and free competition. If a proposal identifies a specific entity to provide the services, the DOL award does not provide the justification or basis to sole-source the procurement, i.e., avoid competition.

The grant awarded under this SGA shall be subject to the following administrative standards and provisions:

29 CFR Part 97—Uniform Administrative Requirements for Grants and Cooperative Agreements to State and Local Governments.

29 CFR Part 96—Federal Standards for Audit of Federally Funded Grants, Contracts, and Agreements.

29 CFR Part 95—Uniform Administrative Requirements for Grants and Cooperative Agreements with Institutions of Higher Education, etc.

B. Allowable Costs

The WB shall determine what constitutes allowable costs in accordance with the following applicable Federal cost principles:

a. State and Local Government—OMB Circular A-87

b. Educational Institutions—OMB Circular A-21

c. Nonprofit Organizations—OMB Circular A-122

d. Profit-making Commercial Firms—48 CFR Part 31

Part VIII. Paperwork Reduction Act Notice (Pub. L. 104-13)

This collection of information is approved under the Office of Management and Budget (OMB) control number 1225-0080, which expires 10/31/02. Persons are not required to respond to a collection of information unless it displays a currently valid OMB control number. The public reporting burden for this collection of information is estimated to average six (6) to twelve (12) hours to complete the grant application; two (2) to five (5) hours for quarterly reports; and four (4) to ten (10) hours for the final report. These estimates include the time for reviewing instructions, researching existing data sources, gathering and maintaining the data needed, and completing and reviewing the collection of information. Send comments regarding this burden estimate or any other aspect of this collection of information, including suggestions for reducing this burden to the Women's Bureau, U.S. Department of Labor, 200 Constitution Ave. NW., Washington, DC 20210, to the attention of Diane Faulkner. Please reference OMB control number 1225-0080.

Signed at Washington, DC, this 24th day of July, 2002.
Lawrence J. Kuss,
Grant Officer.

Appendix

1. Standard Form 424: Application for Federal Assistance

2. Standard Form 424A: Budget Information—Non-Construction Programs

3. Standard Form 424B: Assurances—Non-Construction Programs

BILLING CODE 4510-23-P

[FR Doc. 02-19345 Filed 7-31-02; 8:45 am]

BILLING CODE 4510-23-C